DEPARTMENT OF COMMERCE

National Oceanic and Atmospheric Administration

RIN 0648-XA914

Marine Mammals; File No. 16998

AGENCY: National Marine Fisheries Service (NMFS), National Oceanic and Atmospheric Administration (NOAA), Commerce.

ACTION: Notice; denial of permit.

SUMMARY: Notice is hereby given that an application for a scientific research permit (File No. 16998) submitted by Mr. Gregory Walker, University of Alaska Fairbanks, Fairbanks, AK, has been denied.

ADDRESSES: The application and related documents are available for review upon written request or by appointment in the following office(s):

Permits and Conservation Division, Office of Protected Resources, NMFS, 1315 East-West Highway, Room 13705, Silver Spring, MD 20910; phone (301) 427-8401; fax (301) 713-0376; and Alaska Region, NMFS, P.O. Box 21668, Juneau, AK 99802-1668; phone (907) 586-7221; fax (907) 586-7249.

FOR FURTHER INFORMATION CONTACT: Tammy Adams or Laura Morse, (301) 427-8401.

SUPPLEMENTARY INFORMATION: On January 4, 2012, a notice was published in the Federal Register (77 FR 268) that an application had been filed by the above named applicant for a permit to harass 13,000 Steller sea lions (Eumetopias jubatus), 200 harbor seals (Phoca vitulina), 10 killer whales (Orcinus orca), 10 humpback whales (Megaptera novaeangliae), and 10 northern fur seals (Callorhinus ursinus) over the course of a one-year permit. The objective was to conduct low-altitude (75 to 120 meters) aerial surveys of rookeries and haul outs using ship-based unmanned aircraft to demonstrate novel methods for imaging Steller sea lion terrestrial habitat in the Aleutian Islands with the accuracy and fidelity necessary for population surveys and at a cost low enough to allow frequent monitoring.

In compliance with the National Environmental Policy Act of 1969 (42 U.S.C. 4321 et seq.), an initial determination was made that the activities proposed were consistent with the Preferred Alternative in the Final Programmatic Environmental Impact Statement (PEIS) for Steller Sea Lion and Northern Fur Seal Research (NMFS 2007), and that issuance of the permit would not have a significant adverse impact on the human environment. Comments received on the application after publication of the notice of receipt suggested that an environmental assessment (EA) or other supplemental analysis was warranted due to the lack of information in the PEIS regarding potential effects of such low-altitude surveys. The regulations governing the taking and importing of marine mammals (50 CFR part 216) stipulate that, under these circumstances, the permit be denied unless an EA is prepared with a finding of no significant impact.

The requested permit has been denied subject to the provisions of the Marine Mammal Protection Act of 1972 (16 U.S.C. 1361 et seq.), and the regulations governing the taking and importing of marine mammals (50 CFR part 216), because there is not time to prepare an EA and make a finding of no significant impact before the proposed field season. The application may be re-submitted with information necessary to prepare an EA and would be processed as a new application, with opportunity for public review and comment.

Dated: February 27, 2012.
Tammy C. Adams,
Acting Chief, Permits and Conservation Division, Office of Protected Resources, National Marine Fisheries Service.

[FR Doc. 2012-5184 Filed 3-1-12; 8:45 am]

BILLING CODE 3510-22-P